Title 3—

The President

Memorandum of February 19, 2020

Developing and Delivering More Water Supplies to California

Memorandum for the Secretary of the Interior[,] the Secretary of Commerce[, and] the Chair of the Council on Environmental Quality

By the authority vested in me as President by the Constitution and the laws of the United States of America, I hereby direct the following:

Section 1. Policy. For decades, many of our Federal western water infrastructure investments have been undermined by fragmented and outdated regulatory actions. In a memorandum dated October 19, 2018 (Promoting the Reliable Supply and Delivery of Water in the West), I directed the Secretary of the Interior and the Secretary of Commerce to work together, to the extent practicable and consistent with applicable law, to complete the review of the long-term coordinated operations of the Central Valley Project (CVP) and the California State Water Project (SWP), and subsequently to issue an updated Plan of Operations (Plan) and Record of Decision (ROD). It is the policy of the United States to modernize our Federal western water infrastructure to deliver water and power in an efficient, cost-effective way.

Sec. 2. Enhancing Water Supplies While Appropriately Protecting Species and Habitats. In response to my memorandum, a Plan and ROD were issued today. The new framework set forth in these documents is expected to deliver more water to communities while using science and investments appropriately to protect affected species and their habitats. This is a good first step, but I believe more can be done. Therefore, I direct the Secretary of the Interior and the Secretary of Commerce to build upon the success of the Plan and ROD by supplementing the resulting operations, consistent with applicable law, to make deliveries of water more reliable and bountiful. To help develop and deliver water supplies in the Central Valley of California, I direct those Secretaries to coordinate efforts to:

(a) implement the relevant authorities of subtitle J of the Water Infrastructure Improvements for the Nation Act (Public Law 114-322), which include provisions focused on (1) developing water storage, (2) capturing more water during storm events, and (3) giving agricultural and municipal water users more regulatory certainty;

(b) fully implement, with respect to future agency actions, recent Administration improvements to management of programs established pursuant to the Endangered Species Act of 1973 (Public Law 93-205); and

(c) provide quarterly updates to the Chair of the Council on Environmental Quality and, at the request of other components of the Executive Office of the President, to each such component, regarding progress in carrying out sections 2(a) and (b) of this memorandum.

Sec. 3. General Provisions. (a) Nothing in this memorandum shall be construed to impair or otherwise affect:

(i) the authority granted by law to an executive department or agency, or the head thereof; or

(ii) the functions of the Director of the Office of Management and Budget relating to budgetary, administrative, or legislative proposals.

(b) This memorandum shall be implemented consistent with applicable law and subject to the availability of appropriations.

(c) This memorandum is not intended to, and does not, create any right or benefit, substantive or procedural, enforceable at law or in equity by any party against the United States, its departments, agencies, or entities, its officers, employees, or agents, or any other person.

(d) The Secretary of the Interior is hereby authorized and directed to publish this memorandum in the Federal Register.

THE WHITE HOUSE,

Washington, February 19, 2020

[FR Doc. 2020-04089

Filed 2-25-20; 11:15 am]

Billing code 4310-10-P